DEPARTMENT OF ENERGY

Federal Energy Regulatory Commission

[Docket No. CP16-98-000; PF15-29-000]

Dominion Carolina Gas Transmission, LLC; Notice of Schedule for Environmental Review of the Transco to Charleston Project

On March 9, 2016, Dominion Carolina Gas Transmission, LLC (Dominion) filed an application in Docket No. CP16-98-000 requesting a Certificate of Public Convenience and Necessity pursuant to Section 7(c) of the Natural Gas Act to construct and operate certain natural gas pipeline facilities. The proposed project is known as the Transco to Charleston Project (Project), and would provide firm transportation service of 80,000 dekatherms per day (Dth/day) to local commercial, industrial, and power generation customers.

On March 21, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA September 19, 2016

90-day Federal Authorization Decision Deadline December 18, 2016

If a schedule change becomes necessary, additional notice will be provided so that the relevant agencies are kept informed of the Project's progress.

Project Description

Dominion would construct and operate 55 miles of 12-inch-diameter natural gas pipeline in Spartanburg, Laurens, Newberry, and Greenwood Counties, South Carolina; 5 miles of 4-inch-diameter natural gas pipeline in Dillon County, South Carolina; a new 3,600-horsepower (hp) compressor station in Dorchester County, South Carolina; add 2,800 hp of compression at an existing compressor station in Spartanburg County, South Carolina; modify operation at an existing compressor station in Aiken County, South Carolina; and construct and operate support facilities in Aiken, Charleston, Dillon, Dorchester, Greenwood, Laurens, Newberry, and Spartanburg Counties, South Carolina.

Background

On October 30, 2015, the Commission issued a Notice of Intent to Prepare an Environmental Assessment for the Planned Transco to Charleston Project and Request for Comments on Environmental Issues (NOI). The NOI was issued during the pre-filing review of the Project in Docket No. PF15-29-000 and was sent to affected landowners; federal, state, and local government agencies; elected officials; environmental and public interest groups; Native American tribes; other interested parties; and local libraries and newspapers. In response to the NOI, the Commission received comments from the U.S. Fish and Wildlife Service, the South Carolina Department of Natural Resources, the Columbia South Carolina Chamber of Commerce, the South Carolina Electric and Gas Company, the Natural Gas Supply Association, Upstate Forever, and 20 landowners. The primary issues raised by the commentors are potential crossings of private lands, wildlife species and habitat, and water quality, as well as general support for, and opposition to, the Project.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-98), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: July 25, 2016.
Kimberly D. Bose,
Secretary.

[FR Doc. 2016-18040 Filed 7-28-16; 8:45 am]

BILLING CODE 6717-01-P